SOCIAL SECURITY ADMINISTRATION

Privacy Act of 1974; as Amended; New Routine Use Disclosure

AGENCY: Social Security Administration (SSA).

ACTION: Proposed new routine use.

SUMMARY: In accordance with the Privacy Act (5 U.S.C. 552a(e)(11)), we are issuing public notice of our intent to establish a new routine use disclosure of information SSA maintains in the Privacy Act system of records entitled Supplemental Security Income Record and Special Veterans Benefits System, 60-0103 (SSR/SVB System). The proposed routine use will allow SSA to verify Social Security numbers (SSN) provided by foreign Social Security agencies with whom SSA has a totalization agreement or a mutual assistance arrangement under section 233 of the Social Security Act (42 U.S.C. 433). The routine use proposal is discussed in the Supplementary Information section below. We invite public comments on this proposal.

DATES: We filed a report of the proposed new routine use with the Chairman of the Senate Committee on Governmental Affairs, the Chairman of the House Government Reform Committee, and the Director, Office of Information and Regulatory Affairs, Office of Management and Budget on November 18, 2004. The proposed new routine use will become effective on December 28, 2004 unless we receive comments that would result in a contrary determination.

ADDRESSES: Interested individuals may comment on this publication by writing to the Executive Director, Office of Public Disclosure, Office of the General Counsel, Social Security Administration, 3-A-6 Operations Building, 6401 Security Boulevard, Baltimore, Maryland 21235-6401. All comments received will be available for public inspection at the above address.

FOR FURTHER INFORMATION CONTACT: Mr. Willie J. Polk, Team Leader, Strategic Issues Team, Office of Public Disclosure, Office of the General Counsel, Social Security Administration, Room 3-A-6 Operations Building, 6401 Security Boulevard, Baltimore, Maryland 21235-6401, telephone (410) 965-1753, e-mail: willie.j.polk@ssa.gov.

SUPPLEMENTARY INFORMATION:

I. Background and Purpose of the Proposed New Routine Use Disclosure

A. General Background

Section 233 of the Social Security Act (Act) (42 U.S.C. 433) authorizes the President to enter into agreements with other countries for the purpose of coordinating the Social Security systems of both countries. These agreements, frequently called “totalization agreements,” help fill gaps in benefit protection for workers who divide their careers between the United States and the other country. Such workers may fail to qualify for Social Security benefits from the United States or the other country because they have not worked long enough to meet minimum eligibility requirements. Under these agreements, each country can count credits earned under the other country's system if this will help the worker meet the minimum length-of-work requirements to qualify. Where eligibility is established by counting credits in both countries, the benefit is prorated to reflect the amount of credit earned in the paying country. To facilitate this process, SSA shares personal information in its files with the Social Security agencies of the countries which are parties to the agreements.

Consistent with section 233 of the Act, SSA enters into mutual assistance arrangements with totalization countries. Under the mutual assistance arrangements, the foreign country assists SSA generally in the administration of its programs in the foreign country and SSA provides reciprocal services for the foreign country. This includes, but may not be limited to, providing services such as post-entitlement reviews and redeterminations, program and operational studies, and integrity reviews and evaluations.

SSA currently verifies SSNs provided by foreign countries with which we have totalization agreements and mutual assistance arrangements under those agreements. We have an established routine use applicable to the Master Files of Social Security Number (SSN) Holders and SSN Applications System, 60-0058; Earnings Recording and Self-Employment Income System; and the Master Beneficiary Record, 60-0090; Privacy Act systems of records that allows SSA to verify SSNs and disclose other information to countries with which we have totalization agreements and mutual assistance arrangements. We have identified the need to establish a new routine use that would allow SSA to verify SSNs provided by those countries, using information we maintain in the SSR/SVB System Privacy Act system of records. The proposed routine use will read as follows:

To the Social Security agency of a foreign country, for the purpose of verifying Social Security numbers, to carry out the purposes of an international Social Security agreement entered into between the United States and the other country, pursuant to section 233 of the Social Security Act (42 U.S.C. 433).

The proposed routine use will be numbered 36 in the notice of the SSR/SVB System. We are not republishing the notice of this system of records at this time. A notice of the system of records last was published in its entirety in the Federal Register (FR) on February 21, 2001. See 66 FR 11079, February 21, 2001.

B. Compatibility of Proposed New Routine Use Disclosure

The Privacy Act (5 U.S.C. 552a(b)(3)) and our disclosure regulations (20 CFR Part 401) permit us to disclose information under a published routine use for a purpose which is compatible with the purpose for which we collected the information. Section 401.150(c) of the regulations permits us to disclose information under a routine use where necessary to carry out SSA programs or assist other agencies in administering similar programs. The disclosures under the proposed new routine use will be compatible since, by the nature of the totalization agreement with a foreign country under section 233 of the Social Security Act (42 U.S.C 433), the foreign country will be administering a program comparable to the Social Security program of the United States.

II. Effect of the Proposed Routine Use on the Rights of Individuals

Whenever SSA enters into a totalization agreement with a foreign country, SSA always requires the other country's assurance that appropriate laws of that country protect the confidentiality of personal data. SSA always considers how compatible the other country's privacy laws are with those of the United States. Unless the other country's laws allow disclosure, the information which SSA furnishes to a foreign country's Social Security agency under a totalization agreement must be kept confidential and, to the extent possible, used exclusively for implementing the agreement (Social Security Ruling 80-15 and 20 CFR 404.1930). Verifications of SSNs provided by foreign Social Security agencies will be done only as discussed in section I.A. above. To this end, we do not anticipate any unwarranted effects on the rights of individuals from our implementation of the proposed routine use.

Dated: November 18, 2004.
Jo Anne B. Barnhart,
Commissioner.

[FR Doc. 04-26141 Filed 11-24-04; 8:45 am]

BILLING CODE 4191-02-P